DEPARTMENT OF TRANSPORTATION

33 CFR Part 100

[CGD07-00-035]

RIN 2115-AE47

Special Local Regulations: South Carolina Aquarium Grand Opening Fireworks Display, Charleston Harbor, Charleston, SC

AGENCY: Coast Guard, DOT.

ACTION: Temporary final rule.

SUMMARY: Temporary Special Local Regulations are being adopted for the: South Carolina Aquarium Grand Opening fireworks display. These regulations are needed to provide for the safety of life on navigable waters during the event.

DATES: These regulations become effective at 8:30 p.m. and terminate at 10 p.m. EDT on May 20, 2000.

FOR FURTHER INFORMATION CONTACT: Lt. Simone Brisco at (843) 724-7628.

SUPPLEMENTARY INFORMATION:

Regulatory Information

We did not publish a notice of proposed rulemaking (NPRM) for this regulation. Under 5 U.S.C. 553(b)(B) and 553(d)(3), the Coast Guard finds that good cause exists for not publishing an NPRM and making these regulations effective less than 30 days after the Federal Register publication. Publishing an NPRM and delaying the effective date would be contrary to national safety interests since immediate action is needed to minimize potential danger to the public as there will be numerous spectator craft in the area, the event date is scheduled for May 20, 2000, and the permit request was only recently received.

Background and Purpose

These regulations are required to provide for the safety of life on navigable waters because of the inherent danger of the storage and launching of fireworks in the vicinity of spectator craft in Charleston Harbor, Charleston, SC. These regulations prohibit non-participating vessels from entering the area surrounding the two fireworks barges.

Regulatory Evaluation

This proposal is not a “significant regulatory action” under section 3(f) of Executive Order 12866 and does not require an assessment of potential costs and benefits under section 6(a)(3) of that order. The Office of Management and Budget has not reviewed it under that order. It is not “significant” under the regulatory policies and procedures of the Department of Transportation (DOT) (44 FR 11040: February 26, 1979). The Coast Guard expects the economic impact of this proposal to be so minimal that a full Regulatory Evaluation under paragraph 10(e) of the regulatory policies and procedures of DOT is unnecessary. The regulated area will only be in effect for approximately 1½ hours.

Small Entities

Under the Regulatory Flexibility Act (5 U.S.C. 601 et seq.), the Coast Guard must consider whether this rule will have a significant economic effect upon a substantial number of small entities. “Small entities” include small business, not-for-profit organizations that are independently owned and operated and are not dominant in their fields, and governmental jurisdictions with populations of less than 50,000.

The Coast Guard certifies under 5 U.S.C. 605(b) that this rule will not have a significant economic impact on a substantial number of small entities as the regulations will only be in effect for 1½ hours in a limited area and the event will be highly publicized.

Assistance for Small Entities

Under section 213(a) of the Small Business Regulatory Enforcement Fairness Act of 1996 (Pub. L. 104-221), we offer to assist small entities in understanding the rule so that they could better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information requirements under the Paperwork Reduction Act (44 U.S.C. 3501 et seq.).

Federalism

We have analyzed this rule under Executive Order 13132 and have determined that this rule does not have implications for federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or safety that may disproportionately affect children.

Environment

The Coast Guard has considered the environmental impact of this action and has determined pursuant to Figure 2-1, paragraph 34(h) of Commandant Instruction M16475.1C, that this action is categorically excluded from further environmental documentation.

List of Subjects in 33 CFR Part 100

Marine safety, Navigation (water), Reporting and recordkeeping requirements, Waterways.

Temporary Regulations

In consideration of the foregoing, the Coast Guard amends part 100 of Title 33, Code of Federal Regulations as follows:

PART 100—[AMENDED]

1. The authority citation for part 100 continues to read as follows:

Authority: 33 U.S.C. 1233.49 CFR 1.46, and 33 CFR 100.35.

2. Add temporary § 100.35T-07-035 to read as follows:

§ 100.35T-07-035 South Carolina Aquarium Grand Opening fireworks display, Charleston Harbor, Charleston, SC.

(a) Regulated Area. The rectangular regulated area in Charleston Harbor is bounded on the north by a line drawn along latitude 32°47′38″ N, on the south by a line along 32°46′40″ W, on the east by a line along longitude 79°54′57″ W and on the west by a line along 79°55′23″ W. All coordinates referenced use Datum: NAD 1983.

(b) Coast Guard Patrol Commander. The Coast Guard Patrol Commander is a commissioned, warrant, or petty officer of the Coast Guard who has been designated by Commanding Officer, Group Charleston, SC.

(c) Special Local Regulations. Entry into the regulated area by other than event participants is prohibited, unless otherwise authorized by the Patrol Commander. Spectator craft may remain in a spectator area to be established by the event sponsor, The South Carolina Aquarium.

(d) Dates. These regulations become effective at 8:30 p.m. and terminate at 10 p.m. EDT on May 20, 2000.

Dated: April 20, 2000
G. W. Sutton,
Captain, U.S. Coast Guard, Commander, Seventh Coast Guard District Acting.

[FR Doc. 00-10942 Filed 5-2-00; 8:45 am]

BILLING CODE 4910-15-U